DEPARTMENT OF TRANSPORTATION

Federal Transit Administration (FTA)

Fiscal Year 2015 Low or No Emission Vehicle Deployment (LoNo) Program

AGENCY: Federal Transit Administration (FTA), DOT. Funding Opportunity Number: FTA-2015-006-TRI Catalog of Federal Domestic Assistance (CFDA) Number: 20.514

ACTION: Announcement of project selections.

SUMMARY:

Low or No Emission Vehicle Deployment Program

The U.S. Department of Transportation's (DOT) Federal Transit Administration (FTA) announced the selection of Fiscal Year (FY) 2015 Low or No Emissions Vehicle Deployment Program (LoNo) projects on April 19, 2016, (see Table 1). The Moving Ahead for Progress in the 21st Century Act (MAP-21), Public Law 112-141, July 6, 2012, amended 49 U.S.C. 5312 to add a new paragraph (d)(5) authorizing FTA to make grants to finance eligible projects under the LoNo Program. The Consolidated and Further Continuing Appropriations Act, 2015, Public Law 113-235, December 16, 2014, made available $22,500,000 in FY 2015 funds to carry out the LoNo Program. Of that amount, a maximum of $19,500,000 was available for transit buses and a minimum of $3,000,000 was available for supporting facilities and related equipment.

On September 24, 2015, FTA published a Notice of Funding Availability (NOFA) (80 FR 57656) announcing the availability of funding for the LoNo Program. The purpose of the LoNo Program is to deploy the cleanest and most energy efficient U.S.-made transit buses that have been largely proven in testing and demonstrations but are not yet widely deployed in transit agency fleets. The LoNo Program provides funding for transit agencies for capital acquisitions and leases of zero-emission and low-emission transit buses, including acquisition, construction, and leasing of required supporting facilities such as recharging, refueling, and maintenance facilities.

FOR FURTHER INFORMATION CONTACT: The appropriate FTA Regional Office will contact successful applicants regarding the next steps in applying for funds (see Table 1). Unsuccessful LoNo Program applicants may contact Sean Ricketson, Office of Research Demonstration, and Innovation at email address sean.ricketson@dot.gov to arrange a proposal debriefing within 30 days of this announcement.

SUPPLEMENTARY INFORMATION: In response to the LoNo NOFA, FTA received 63 project proposals requesting $247,631,499 in Federal funds. Project proposals were evaluated based on each applicant's responsiveness to the program evaluation criteria published in the NOFA. FTA is funding seven LoNo Program projects, as shown in Table 1, for a total of $22,500,000. Grantees selected for the LoNo Program should work with their FTA Regional Office to complete the grant applications.

Grant applications must only include eligible activities applied for in the original project application. Project partner organizations identified as team members or sub-recipients in the original project application must be identified and included in the grant application in the capacity as originally proposed. Funds must be used consistent with the competitive proposal and for the eligible purposes established in the NOFA and described in the FTA Circular 6100.1E and/or FTA Circular 9030.1E. In cases where the allocation amount is less than the proposer's requested amount, grantees should work with the FTA Regional Office is coordination with the Office of Research, Demonstration, and Innovation to reduce scope or scale the project such that a complete phase or project is accomplished. Grantees are reminded that program requirements such as cost sharing or local match can be found in the NOFA. A discretionary research project identification number will be assigned to each project for tracking purposes and must be used in the Transit Award Management System (TrAMS) application.

All projects are granted pre-award authority with an effective date of April 19, 2016, so long as all required conditions for pre-award authority have been met and the activities undertaken in advance of federal funding are contained in the approved project plan or statement of work. Post-award reporting requirements include submission of the Federal Financial Report and Milestone reports in TrAMS as appropriate (FTA Circular 6100.1E, Circular 5010.1D and Circular 9030.1E). The grantees must comply with all applicable Federal statutes, regulations, executive orders, FTA circulars, and other Federal requirements detailed in the most recent Master Agreement in carrying out the project supported by the FTA research grant. The FY16 Master Agreement can be found at the following Internet address: https://www.transit.dot.gov/funding/grantee-resources/sample-fta-agreements/sample-fta-agreements-october-1-2015.

Carolyn Flowers,
Acting Administrator.

Table 1—Low or No Emission Vehicle Deployment Program Project Selections
Discretionary ID | State | Project sponsor | Project | Amount
D2016-LONO-001 | CA | LACMTA under Southern California Association of Governments (SCAG) | Deploy 5 battery-electric buses | $4,275,000
D2016-LONO-002 | CA | Foothill Transit under Southern California Association of Governments (SCAG) | Deploy charging infrastructure for an existing fleet of battery-electric buses | 1,310,000
D2016-LONO-003 | CA | AC Transit Under the Metropolitan Transportation Commission | Deploy 5 battery-electric buses | 1,551,611
D2016-LONO-004 | OH | Stark Area Regional Transit Authority | Deploy 3 additional buses to SARTA's fleet of fuel cell electric buses | 4,015,174
D2016-LONO-005 | PA | Southeastern Pennsylvania Transportation Authority (SEPTA) | Deploy 25 battery-electric buses | 2,585,075
D2016-LONO-006 | UT | Utah Transit Authority (UTA) | Deploy 5 battery-electric buses | 5,427,100
D2016-LONO-007 | WA | King County | Deploy 8 additional buses to King County's fleet of battery-electric buses | 3,336,040
Total |  |  |  | 22,500,000

[FR Doc. 2016-18045 Filed 7-29-16; 8:45 am]

BILLING CODE 4910-57-P